DEPARTMENT OF JUSTICE

Notice of Lodging of Partial Consent Decree Under the Clean Water Act

Notice is hereby given that on May 3, 2005, a proposed Partial Consent Decree in United States v. City of San Diego, Civil Action No. NO. 01-CV-0550B (POR) was lodged with the United States District Court for the Southern District of California. The United States' action is consolidated with San Diego Baykeeper, et al. v. City of San Diego, Civil Action No. 01-CV-0550B (POR).

The United States' action seeks penalties and injunctive relief to address sanitary sewer overflows and other violations of the Clean Water Act (“Act”) and the City of San Diego's National Pollutant Discharge Elimination System permit. Under the Partial Consent Decree, the City will: (i) Inspect, rehabilitate, and replace portions of the sewer system; (ii) control root problems; (iii) clean a specified amount of sewer pipe; (iv) implement a grease blockage control program ;(v) perform analyses of canyon-based sewer lines; and (vi) perform projects relating to the capacity of the sewer system.

Pursuant to 28 CFR 50.7, the United States Department of Justice will receive, for a period of thirty (30) days from the date of this publication, comments relating to the Partial Consent Decree. Comments should be addressed to the U.S. Department of Justice, Assistant Attorney General, Environment and Natural Resources Division, P.O. Box 7611, Ben Franklin Station, Washington, DC 20044-7611, and should refer to United States v. The City of San Diego, Civil Action No. NO. 01-CV-0550B (POR), D.J. Ref. No. 90-5-1-1-4364/1.

The Partial Consent Decree may be examined during the public comment period on the following Department of Justice Web site: http://www.usdoj.gov/enrd/open.html. A copy of the Partial Consent Decree may also be obtained by mail from the Consent Decree Library, U.S. Department of Justice, P.O. Box 7611, Ben Franklin Station, Washington, DC 20044-7611, or by faxing or e-mailing a request to Tonia Fleetwood (tonia.fleetwood@usdoj.gov), fax number (202) 514-0097, phone confirmation number (202) 514-1547. When requesting a copy from the Consent Decree Library, please enclose a check in the amount of $14.25 (25 cents per page reproduction cost) payable to the U.S. Treasury.

Ellen Mahan,
Assistant Section Chief, Environmental Enforcement Section, Environment and Natural Resources.

[FR Doc. 05-10487 Filed 5-25-05; 8:45 am]

BILLING CODE 4410-15-M